DEPARTMENT OF TRANSPORTATION

Federal Aviation Administration

14 CFR Part 39

[Docket No. FAA-2012-0636; Directorate Identifier 2012-NM-037-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A300 B4-601, B4-603, and B4-605R airplanes, Model A300 F4-605R airplanes, Model A300 C4-605R Variant F airplanes, and Model A310-204 and -304 airplanes, powered by General Electric (GE) CF6-80C2 series engines. This proposed AD was prompted by reports of two single-engine flame-out events during inclement weather. This proposed AD would require installing a shunt of the rotary selector (introducing an auto-relight function). We are proposing this AD to prevent a long engine restart sequence after a non-selection of continuous re-light by the crew and a flame-out event of both engines, which could result in reduced controllability of the airplane, especially at low altitude.

DATES: We must receive comments on this proposed AD by August 2, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2012-0636; Directorate Identifier 2012-NM-037-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0113, dated June 17, 2011 (referred to after this as “the MCAI”), to correct an unsafe condition for the specified products. The MCAI states:

Two single [engine] flame out events attributed to inclement weather occurred on Wide Body (WB) aeroplanes powered with GE CF6-80C2 engines.

On WB aeroplanes, no auto-relight function is embodied. To avoid long engine restart sequence after a non selection of continuous relight by the crew and a flame out event of both engines, resulting in strongly reduced control of the aeroplane especially at low altitude, the manufacturer Airbus designed a modification by introducing auto-relight function for aeroplanes powered by GE CF6-80C2 engines.

For the reason described above, this EASA AD requires the installation on the aeroplane of an auto-relight function [installing a shunt of the rotary selector] as a precaution and to increase restart capability without crew action.

You may obtain further information by examining the MCAI in the AD docket.

Relevant Service Information

Airbus has issued Mandatory Service Bulletin A310-74-2003, Revision 02, including Appendix 1, dated February 9, 2012 (for Model A310-204 and -304 airplanes); and Mandatory Service Bulletin A300-74-6003, Revision 02, including Appendix 1, dated February 9, 2012 (for Model A300 B4-601, B4-603, and B4-605R airplanes, Model A300 F4-605R airplanes, and Model A300 C4-605R Variant F airplanes). The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 47 products of U.S. registry. We also estimate that it would take about 80 work-hours per product to comply with the basic requirements of this proposed AD. The average labor rate is $85 per work-hour. Required parts would cost about $12,500 per product. Where the service information lists required parts costs that are covered under warranty, we have assumed that there will be no charge for these parts. As we do not control warranty coverage for affected parties, some parties may incur costs higher than estimated here. Based on these figures, we estimate the cost of the proposed AD on U.S. operators to be $907,100, or $19,300 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0636; Directorate Identifier 2012-NM-037-AD.

(a) Comments Due Date

We must receive comments by August 2, 2012.

(b) Affected ADs

None.

(c) Applicability

This AD applies to Airbus Model A300 B4-601, B4-603, and B4-605R airplanes Model A300 F4-605R airplanes, Model A300 C4-605R Variant F airplanes, and Model A310-204 and -304 airplanes; certificated in any category; all serial numbers, powered by General Electric (GE) CF6-80C2 series engines.

(d) Subject

Air Transport Association (ATA) of America Code 74: Ignition.

(e) Reason

This AD was prompted by reports of two single-engine flame-out events during inclement weather. We are issuing this AD to prevent a long engine restart sequence after a non-selection of continuous re-light by the crew and a flame-out event of both engines, which could result in reduced controllability of the airplane, especially at low altitude.

(f) Compliance

You are responsible for having the actions required by this AD performed within the compliance times specified, unless the actions have already been done.

(g) Modification

Within 6,000 flight hours or 30 months after the effective date of this AD, whichever occurs later: Modify the airplane by installing a shunt of the rotary selector (introducing an auto-relight function), in accordance with the Accomplishment Instructions of Airbus Mandatory Service Bulletin A300-74-6003, Revision 02, including Appendix 1, dated February 9, 2012 (for Model A300 B4-601, B4-603, and B4-605R airplanes, Model A300 F4-605R airplanes, and Model A300 C4-605R Variant F airplanes); or Airbus Mandatory Service Bulletin A310-74-2003, Revision 02, including Appendix 1, dated February 9, 2012 (for Model A310-204 and -304 airplanes).

(h) Credit for Previous Actions

This paragraph provides credit for the actions required by paragraph (g) of this AD, if those actions were performed before the effective date of this AD using the applicable service information specified in paragraphs (h)(1) or (h)(2) of this AD.

(1) Airbus Mandatory Service Bulletin A300-74-6003, Revision 01, including Appendix 1, dated April 1, 2011 (for Model A300 B4-601, B4-603, and B4-605R airplanes, Model A300 F4-605R, and Model A300 C4-605R Variant F airplanes).

(2) Airbus Mandatory Service Bulletin A310-74-2003, Revision 01, including Appendix 1, dated April 1, 2011 (for Model A310-204 and -304 airplanes).

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI EASA Airworthiness Directive 2011-0113, dated June 17, 2011; and the service information specified in paragraph (j)(1) and (j)(2) of this AD; for related information.

(1) Airbus Mandatory Service Bulletin A300-74-6003, Revision 02, including Appendix 1, dated February 9, 2012.

(2) Airbus Mandatory Service Bulletin A310-74-2003, Revision 02, including Appendix 1, dated February 9, 2012.

Issued in Renton, Washington, on June 7, 2012.
Michael Kaszycki,
Acting Manager, Transport Airplane Directorate, Aircraft Certification Service.

[FR Doc. 2012-14798 Filed 6-15-12; 8:45 am]

BILLING CODE 4910-13-P